DEPARTMENT OF HEALTH AND HUMAN SERVICES

Health Care Financing Administration

42 CFR Parts 412, 413 and 489

[HCFA-1005-CN2]

RIN 0938-AI56

Medicare Program; Prospective Payment System for Hospital Outpatient Services; Delay of Effective Date

AGENCY: Health Care Financing Administration (HCFA), HHS.

ACTION: Correction.

SUMMARY: This document corrects several typographical errors that appeared in the notice of delay of effective date for the final rule with comment period published in the Federal Register on June 30, 2000, entitled “Medicare Program; Prospective Payment System for Hospital Outpatient Services; Delay of Effective Date.”

EFFECTIVE DATE: August 1, 2000.

FOR FURTHER INFORMATION CONTACT: Janet Wellham, (410) 786-4510.

SUPPLEMENTARY INFORMATION:

Background

In FR Doc. 00-16586 of June 30, 2000 (65 FR 40535), there were several typographical errors. The provisions in this correction notice are effective as if they had been included in the document published in the Federal Register on June 30, 2000.

Correction of Errors

In FR Doc. 00-16586 on June 30, 2000, make the following corrections:

1. On page 40535, column three, in the DATES section, “§ 412.24” is corrected to read “§ 413.24”, and § 489.24(h) is corrected to read “§ 489.24.”

2. On page 40537, column one, the third full paragraph, line two, “§ 412.24” is corrected to read “§ 413.24”, and “§ 489.24(h)” is corrected to read “§ 489.24.”

(Catalog of Federal Domestic Assistance Program No. 93.774, Medicare—Supplementary Medical Insurance Program)

Dated: September 21, 2000.
Brian P. Burns,
Deputy Assistant Secretary for Information Resources Management.

[FR Doc. 00-25498 Filed 10-5-00; 8:45 am]

BILLING CODE 4120-01-P